DEPARTMENT OF THE INTERIOR

Bureau of Reclamation

Northwest Area Water Supply Project, ND

AGENCY: Bureau of Reclamation, Interior.

ACTION: Notice for extension of the public comment period for the Draft Environmental Impact Statement (DEIS).

SUMMARY: The Bureau of Reclamation is announcing a 30-day extension of the public comment period for the Northwest Area Water Supply Project Draft Environmental Impact Statement on Water Treatment. The originally announced comment period ends on February 26, 2008, but has been extended until March 26, 2008. The original notice of availability of the DEIS, notice of the public hearings, and additional information on the DEIS were published in the Federal Register on December 21, 2007.

DATES: Comments on the DEIS should be postmarked by March 26, 2008.

ADDRESSES: Send comments on the Draft EIS to: Northwest Area Water Supply Project EIS, Bureau of Reclamation, Dakotas Area Office, P.O. Box 1017, Bismarck, ND 58502.

FOR FURTHER INFORMATION CONTACT: Alicia Waters, telephone: (701) 221-1206 or FAX (701) 250-4326. You may submit e-mail to awaters@gp.usbr.gov by March 26, 2008.

SUPPLEMENTARY INFORMATION:

Public Disclosure Statement

Before including your name, address, phone number, e-mail address, or other personal identifying information in your comment, you should be aware that your entire comment—including your personal identifying information—may be made publicly available at any time. While you can ask us in your comment to withhold your personal identifying information from public review, we cannot guarantee that we will be able to do so.

Dated: February 22, 2008.
Donald E. Moomaw,
Assistant Regional Director, Great Plains Region.

[FR Doc. E8-3774 Filed 2-27-08; 8:45 am]

BILLING CODE 4310-MN-P